DEPARTMENT OF TRANSPORTATION

Office of the Secretary

[Docket No. DOT-OST-2018-0204]

Air Carrier Access Act Advisory Committee; Solicitation for Nominations

AGENCY: Office of the Secretary (OST), Department of Transportation (Department).

ACTION: Solicitation of memberships for appointment to the Air Carrier Access Act (ACAA) Advisory Committee (ACAA Advisory Committee or the Committee).

SUMMARY: The Department is soliciting applications and nominations for memberships to the ACAA Advisory Committee. The ACAA Advisory Committee reviews issues related to the air travel needs of passengers with disabilities.

DATES: Nominations and applications for ACAA Advisory Committee membership must be received on or before September 14, 2022.

FOR FURTHER INFORMATION CONTACT: If you have questions about the ACAA Advisory Committee, you may contact Vinh Nguyen, Office of Aviation Consumer Protection, U.S. Department of Transportation, by email at vinh.nguyen@dot.gov, or by telephone at 202-366-9342.

SUPPLEMENTARY INFORMATION:

I. Background

Section 439 of the FAA Reauthorization Act of 2018 (2018 FAA Act) requires the Secretary of Transportation to establish an advisory committee to identify and assess barriers to accessible air travel, determine the extent to which DOT is addressing those barriers, recommend improvements, and advise the Secretary on implementing the ACAA. The 2018 FAA Act specifies that the ACAA Committee shall comprise at least one representative of each of the following groups: passengers with disabilities; national disability organizations; air carriers; airport operators; contractor service providers; aircraft manufacturers; wheelchair manufacturers; and national veteran organizations representing disabled veterans.

In September 2019, the Department established the ACAA Advisory Committee, approved its charter, and appointed 19 members to serve on the ACAA Advisory Committee for 2-year terms. The Committee held public meetings in March 2020 and September 2021 and submitted a report with a number of recommendations to the Department in February 2022. The terms of the 19 Committee members have now expired. More information on the ACAA Advisory Committee is available online at www.transportation.gov/airconsumer/ACAACommittee.

II. Eligibility for Membership and Selection Criteria

Because the terms of the previously appointed members have expired, the Department is soliciting new applications and nominations for individuals to serve on the ACAA Advisory Committee. Unless it is renewed, the Committee's charter expires on September 28, 2023, and individuals would be appointed to serve for a term not to exceed the life of the charter. Pursuant to the 2018 FAA Act and the ACAA Advisory Committee's Charter,¹ the membership of the Committee shall comprise at least one representative each of the following groups:

¹ The ACAA Advisory Committee's Charter is available online at www.transportation.gov/individuals/aviation-consumer-protection/charter-air-carrier-access-act-advisory-committee.

1. Passengers with disabilities;

2. National disability organizations;

3. Air carriers;

4. Airport operators;

5. Contractor service providers;

6. Aircraft manufacturers;

7. Wheelchair manufacturers; and

8. National veterans' organizations representing disabled veterans.

The chairperson will be designated from among the members appointed. The Department may select more than one representative for a group, if appropriate, to obtain a fairly balanced membership.

The Department will choose members based on four main criteria:

1. Representativeness (does the applicant represent a significant stakeholder group described above);

2. Expertise (does the applicant bring essential knowledge, expertise, and/or experience regarding accessibility);

3. Balance (do selected applicants comprise a balanced array of representative and expert stakeholders); and

4. Willingness to participate fully (is the applicant able and willing to attend the listed meetings and generally contribute constructively to a rigorous policy development process).

Individuals applying for membership should keep in mind that ACAA Advisory Committee members will be selected based on their ability and willingness to effectively represent the interests of all stakeholders in their category, as distinct from their parochial or personal interests. For example, an individual selected to serve on the Committee as a representative of ultra low cost carrier (ULCC) would represent not only his or her own airline, but all ULCCs. As such, the individual would be expected to consult with other airlines in bringing issues to the table and making decisions on proposals before the Committee.

Nominations are open to all individuals without regard to race, color, religion, sex, national origin, age, disability, marital status, or sexual orientation. Past members of the Committee will also be eligible to be nominated for or to seek reappointment on the Committee.

III. Process for Submitting Nominations

Individuals can self-apply or be nominated by any individual or organization. To be considered for the ACAA Advisory Committee, applicants/nominators must submit the following information:

1. Name, title, organization, and contact information (address, telephone number and email address) of nominee/applicant;

2. Category of membership that the nominee/applicant is qualified to represent;

3. Resume of the applicant or short biography of the nominee including professional and academic credentials;

4. A statement of nomination on why the applicant wants to serve or the nominator is nominating the individual to serve, and the unique perspectives and expenses the nominee brings to the Committee;

5. An affirmative statement that the applicant/nominee meets the eligibility requirements; and

6. Optional letters of support.

Please do not send company, trade association, organization brochures, or any other promotional information. Materials submitted should total five pages or less. Should more information be needed, Department staff will contact the applicant/nominee, obtain information from the applicant's/nominee's past affiliations, or obtain information from publicly available sources.

All application/nomination materials must be submitted electronically via email to ACAA-Advisory-Committee@dot.gov. Applications and nominations must be received by September 14, 2022.

IV. Compensation for Members

Pursuant to section 439(e) of the 2018 FAA Act, Committee members will be reimbursed for travel and per diem expenses as permitted under applicable Federal travel regulations. Reimbursement is subject to funding availability. Committee members will receive no salary or other compensation for participation in Committee activities.

The Secretary reserves the discretion to appoint members to serve on the ACAA Advisory Committee who were not nominated in response to this notice if necessary to meet specific statutory categories and departmental needs in a manner to ensure an appropriate balance of membership. Individuals selected for appointment to the ACAA Advisory Committee will be notified by return email and by a letter of appointment.

Issued in Washington, DC, on or about this 15th day of August 2022.
John E. Putnam,
General Counsel.

[FR Doc. 2022-18173 Filed 8-23-22; 8:45 am]

BILLING CODE P